DEPARTMENT OF THE INTERIOR

National Park Service

Notice of Inventory Completion for Native American Human Remains and Associated Funerary Objects in the Possession of the Anthropological Studies Center, Archaeological Collections Facility, Sonoma State University, Rohnert Park, CA; and in the Control of the California Department of Transportation, Sacramento, CA

AGENCY: National Park Service Interior.

ACTION: Notice.

Notice is hereby given in accordance with provisions of the Native American Graves Protection and Repatriation Act (NAGPRA), 43 CFR 10.9, of the completion of an inventory of human remains and associated funerary objects in the possession of the Anthropological Studies Center, Archaeological Collections Facility, Sonoma State University, Rohnert Park, CA; and in the control of the California Department of Transportation, Sacramento, CA.

This notice is published as part of the National Park Service's administrative responsibilities under NAGPRA, 43 CFR 10.9 (c). The determinations within this notice are the sole responsibility of the museum, institution, or Federal agency that has control of these Native American human remains and associated funerary objects. The National Park Service is not responsible for the determinations within this notice.

A detailed assessment of the human remains was made by Anthropological Studies Center professional staff in consultation with representatives of the Elem Tribal Colony of Pomo Indians of the Sulphur Bank Rancheria, California; Scotts Valley Band of Pomo Indians of California; and Middletown Rancheria of Pomo Indians of California.

In 1961, human remains representing 14 individuals were recovered from site CA-LAK-261 in Lake County, CA, during authorized excavations conducted by David A. Fredrickson of Sonoma State University in conjunction with improvements along California Highway 53. No known individuals were identified. The 39 associated funerary objects include ground stone, shell beads, projectile points, polished bone, and blade fragments.

Based on osteological and archeological evidence, these individuals have been identified as Native American. Nine individuals are believed to be associated with the earliest component of the site, dating from 3000-1000 B.C., and five individuals are believed to be associated with a later component of the site, dating from 500 A.D. and ending prior to European contact. Based on geographical and ethnographic evidence, site CA-LAK-261 is believed to have been the village of Tuleyome.

In 1964, human remains representing 23 individuals were recovered from site CA-LAK-271 (Kelseyville/Glebe site) in Lake County, CA, during authorized excavations conducted by the Department of Parks and Recreation as part of a salvage initiative associated with the California Department of Transportation realignment of California Highway 29, between Lakeport and Kelseyville, CA. No known individuals were identified. The 56 associated funerary objects include projectile points, flakes, cobbles, shells, groundstone, cores, charmstones, faunal remains, scrapers, an obsidian knife, and an awl.

Based on osteological and archeological evidence, these human remains have been identified as Native American. Point typologies date the site to between 1500-3000 B.P. Based on geographical and ethnographic accounts, site CA-LAK-271 is believed to have been the ethnographic village of Licuikalixowa.

In 1975, human remains representing one individual were recovered from site CA-LAK-435 in Lake County, CA, by the Anthropological Studies Center during authorized test excavations prior to widening California Highway 20 east of Upper Lake, CA. No known individuals was identified. No associated funerary objects are present.

Based on archeological evidence, these human remains have been identified as Native American dating to between 500 B.C.-A.D. 0. Based on artifact typology, site CA-LAK-435 has been identified as an occupation site dating from 6000 B.C.-A.D. 1800.

In 1982, human remains representing 14 individuals were recovered from site CA-LAK-510 (Allsop/Creager site) in Lake County, CA, during archeological investigations sponsored by the California Department of Transportation to mitigate an eroding cutbank along Dam Road and reconstruct Old Highway 53. No known individuals were identified. The 56 associated funerary objects include Macoma clam disk beads, projectile points, bone tools, pendants, and pestles.

Based on osteological and archeological evidence, these human remains have been identified as Native American. Based on point typologies and obsidian hydration analysis of associated artifacts, the remains are estimated to date between 500 B.C.-A.D. 0.

During 1978-1981, human remains representing four individuals were recovered from site CA-LAK-510 (Allsop/Creager site) in Lake County, CA, during three separate field projects sponsored by the California Department of Transportation in conjunction with improvements to California Highway 53. No known individuals were identified. The 27 associated funerary objects include Macoma clam disk beads, a projectile point, and a slate pendant.

Based on osteological and archeological evidence, these human remains have been identified as Native American. Based on point typologies and obsidian hydration analysis, the remains are estimated to date between 500 B.C.-A.D. 0. Based on geographical and ethnographic evidence, site CA-LAK-510 has been identified as located near the ethnographic village of Bedai or Creek Home.

Geographical, ethnographic, linguistic, and historical evidence indicates that these archeological sites are located within the traditional territories of the Elem Tribal Colony of Pomo Indians of the Sulphur Bank Rancheria, California; Scotts Valley Band of Pomo Indians of California; and Middletown Rancheria of Pomo Indians of California. Based on archeological evidence, continuity of occupation and material culture, and ethnographic accounts, the Elem Tribal Colony of Pomo Indians of the Sulphur Bank Rancheria, California; Scotts Valley Band of Pomo Indians of California; and Middletown Rancheria of Pomo Indians of California have been culturally affiliated with these sites.

Based on the above mentioned information, the Anthropological Studies Center, Archaeological Collections Facility, Sonoma State University professional staff has determined that, pursuant to 43 CFR 10.2 (d)(1), the human remains listed above represent the physical remains of 56 individuals of Native American ancestry. The Anthropological Studies Center, Archaeological Collections Facility, Sonoma State University professional staff also has determined that, pursuant to 43 CFR 10.2 (d)(2), the 173 objects listed above are reasonably believed to have been placed with or near individual human remains at the time of death or later as part of the death rite or ceremony. Lastly, the Anthropological Studies Center, Archaeological Collections Facility, Sonoma State University professional staff has determined that, pursuant to 43 CFR 10.2 (e), there is a relationship of shared group identity that can be reasonably traced between these Native American human remains and associated funerary objects and the Elem Tribal Colony of Pomo Indians of the Sulphur Bank Rancheria, California; Scotts Valley Band of Pomo Indians of California; and Middletown Rancheria of Pomo Indians of California.

This notice has been sent to officials of the Elem Tribal Colony of Pomo Indians of the Sulphur Bank Rancheria, California; Scotts Valley Band of Pomo Indians of California; and Middletown Rancheria of Pomo Indians of California. Representatives of any other Indian tribe that believes itself to be culturally affiliated with these human remains and associated funerary objects should contact Tina Biorn, Environmental Program, Department of Transportation, P.O. Box 942874 (M.S. 27), Sacramento, CA 94274-0001, telephone (916) 653-0013, before November 26, 2001. Repatriation of the human remains and associated funerary objects to the Elem Tribal Colony of Pomo Indians of the Sulphur Bank Rancheria, California; Scotts Valley Band of Pomo Indians of California; and Middletown Rancheria of Pomo Indians of California may begin after that date if no additional claimants come forward.

Dated: July 3, 2001.
John Robbins,
Assistant Director, Cultural Resources Stewardship and Partnerships.

[FR Doc. 01-27049 Filed 10-25-01; 8:45 am]

BILLING CODE 4310-70-F